DEPARTMENT OF ENERGY

Federal Energy Regulatory Commission

[Project No. 2343-086]

PE Hydro Generation, LLC; Notice of Availability of Draft Environmental Assessment

In accordance with the National Environmental Policy Act of 1969 and the Federal Energy Regulatory Commission's (Commission) regulations, 18 CFR part 380 (Order No. 486, 52 FR 47879), the Office of Energy Projects has reviewed the application for a new license for the Millville Hydroelectric Project, located on the Shenandoah River, near the town of Harpers Ferry in Jefferson County, West Virginia, and has prepared a draft Environmental Assessment (draft EA) for the project. The project does not occupy federal land.

In the draft EA, Commission staff analyze the potential environmental effects of relicensing the project and conclude that continued project operation under a new license, with appropriate measures, would not constitute a major federal action significantly affecting the quality of the human environment.

A copy of the draft EA is available for review at the Commission in the Public Reference Room or may be viewed on the Commission's Web site at www.ferc.gov using the eLibrary link. Enter the docket number, excluding the last three digits, in the docket number field to access the document. For assistance, contact FERC Online Support at FERCOnlineSupport@ferc.gov or toll-free number at 1-866-208-3676, or for TTY, 202-502-8659.

You may also register online at www.ferc.gov/docs-filing/esubscription.asp to be notified via email of new filings and issuances related to this or other pending projects. For assistance, contact FERC Online Support.

For further information, please contact Michael Spencer by telephone at (202) 502-6093 or by email at michael.spencer@ferc.gov.

Dated: August 16, 2017.
Kimberly D. Bose,
Secretary.

[FR Doc. 2017-17965 Filed 8-23-17; 8:45 am]

BILLING CODE 6717-01-P